DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census 2000 Evaluation Followup Interview.

Form Number(s): D-1301 (EFU), D-1301 (EFU) S, D-1379.

Agency Approval Number: None.

Type of Request: New collection.

Burden: 8,000 hours.

Number of Respondents: 40,000.

Avg Hours Per Response: 12 minutes.

Needs and Uses: The Census Bureau requests approval from the Office of Management and Budget (OMB) for clearance of the Evaluation Followup Interview (EFU). This instrument will be used to assist in the evaluation of Census 2000 and the Accuracy and Coverage Evaluation (A.C.E.) processes.

The Census Bureau developed the A.C.E. approach for measuring coverage of the population in the decennial census. In the A.C.E., the Census Bureau independently counts a sample of housing units and the people living in those units, then compares those results to the census. The Census Bureau then uses this comparative information to produce final estimates of the coverage for Census 2000.

The objective of the EFU is to measure and evaluate data collection and measurement error associated with the A.C.E. process. Data collection error can be caused by enumerators, respondents, or the questionnaire design. An example of error caused by a respondent is misunderstanding of the residence rules. Errors caused by an enumerator include falsifying part of a roster or reading a question incorrectly in a way that changes the meaning for the respondent. If the questionnaire does not make it clear who should be counted at a residence, error can occur, too.

The EFU is designed to collect information to evaluate the scope of data collection error. The EFU is a reinterview of some of the households in a subsample of A.C.E. clusters. It is similar to the A.C.E. Person Followup Interview (PFU), but with more questions on specific types of group quarters, other residences and move in and move out dates to help get the “best” residency status and person match code classifications for all sample persons. The EFU will ask about specific people who were rostered in either the Census, the A.C.E., or both.

Affected Public: Individuals or households.

Frequency: One time.

Respondent's Obligation: Mandatory.

Legal Authority: Title 13 U.S.C., Sections 141 and 193.

OMB Desk Officer: Susan Schechter, (202) 395-5103.

Copies of the above information collection proposal can be obtained by calling or writing Linda Engelmeier, DOC Forms Clearance Officer, (202) 482-3129, Department of Commerce, room 6086, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: August 18, 2000.
Madeleine Clayton,
Management Analyst, Office of the Chief Information Officer.

[FR Doc. 00-22440 Filed 8-31-00; 8:45 am]

BILLING CODE 3510-07-P